DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting John Rambosek, Ph.D., Technology Licensing Specialist, Office of Technology Transfer, National Institutes of Health, 6011 Executive Boulevard, Suite 325, Rockville, Maryland 20852-3804; telephone: 301/496-7056 ext. 270; fax: 301/402-0220; e-mail: rambosej@od.nih.gov. A signed Confidential Disclosure Agreement will be required to receive copies of the patent applications.

Enhanced Homologous Recombination Mediated by Lambda Recombination Proteins

Drs. E. Lee, N. Copeland, N. Jenkins, and D. Court (NCI)

DHHS Reference No. E-077-01/0 filed 26 Feb 2001

The present invention concerns methods to enhance homologous recombination in bacterial and eukaryotic cells using recombination proteins derived from bacteriophage lambda. It also concerns methods for promoting homologous recombination using other recombination proteins. Concerted use of restriction endonucleases and DNA ligases allows in vitro recombination of DNA sequences. The recombinant DNA generated by restriction and ligation may be amplified in an appropriate microorganism such as E. coli, and used for diverse purposes including gene therapy. However, practical limitations imposed by this system generally results in DNA fragments with an upper limit of approximately 20 kilobases. The present invention utilizes homologous recombination instead of restriction enzymes to build DNA constructs. These DNA constructs may be several hundreds of kilobases in size. Using this invention, small linear fragments of DNA (such as a gene of interest) may be inserted efficiently and precisely into very large cloned fragments of DNA. These DNA constructs may be used for a variety of purposes, including generation of transgenic animals in which appropriate tissue specific regulation of gene expression is maintained.

Biologically Active FLAG-Epitope-Tagged Transforming Growth Factor Beta (TGF-beta) Protein

Lawrence A. Wolfraim, John J. Letterio, Kathleen Flanders, Lalage Wakefield, Anita B. Roberts (NCI)

DHHS Reference No. E-149-00/0 filed 20 Oct 2000

The current invention discloses an epitope-tagged TGF-beta that can be expressed in mammalian cells while still maintaining complete biological activity. An epitope is a region of a protein that can be recognized by an antibody. Although there are currently TGF-beta antibodies available, their usefulness is limited by cross reactivity amongst all members of the TGF family, as well as by an inability to distinguish between endogenous and exogenous TGFs. The current invention provides a means for distinguishing between these variations by epitope tagging of TGF-beta. The tag of this invention is the FLAG tag, an 8 amino acid sequence consisting of DYKDDDDK (D=aspartate, Y=tyrosine, K=lysine). Two FLAG tagged TGF constructs have been generated: the first inserts the tag at the amino terminus of the mature polypeptide and the second inserts the tag between amino acids 11 and 12 of the mature polypeptide. The core of the invention is that the insertion of the tag into these specific regions of the TGF molecule still allows for the retention of complete biological activity. Thus the tagged TGF may be monitored and distinguished by various biochemical means (through the FLAG epitope) from endogenous TGFs while at the same time the physiological effects of the tagged TGF may be analyzed as though it were a natural TGF. The TGF of the current invention may also be used to study TGF receptor expression levels, the loss of which has been correlated with various disease states, including cancers and autoimmune diseases. In addition, in the future the FLAG tag may permit the development of therapeutic compounds which could be used to “ferry” the TGFs to target tissues, thereby reducing side effects associated with systemic administration of TGF family proteins.

Dated: March 29, 2001.
Jack Spiegel,
Director, Division of Technology Development and Transfer, Office of Technology Transfer, National Institutes of Health.

[FR Doc. 01-8375 Filed 4-4-01; 8:45 am]

BILLING CODE 4140-01-P